DEPARTMENT OF TRANSPORTATION

Pipeline and Hazardous Materials Safety Administration

Hazardous Materials: Notice of Application for Special Permits

AGENCY: Office of Hazardous Materials Safety, Pipeline and Hazardous Materials Safety Administration, (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 26, 2015.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on April 8, 2015.
Donald Burger,
Chief, General Approvals and Permits.

Application No. | Docket No. | Applicant | Regulation(s) affected | Nature of special permits thereof
NEW SPECIAL PERMITS
16416-N |  | INOX India Limited, Gujarat, India | 49 CFR 173.316 | To authorize the manufacture, mark sale and use of a DOT specification 4L cylinder to be used for the transportation in commerce of methane, refrigerated liquid, Division 2.1. (mode 1)
16417-N |  | CB&I AREVA MOX Services, LLC, Aiken, SC | 49 CFR 173.420(a)(2)(i) | To authorize the transportation of uranium hexafluoride in cylinders that do not meet the specifications in ANSI N14.1. (mode 1)
16424-N |  | Cimarron Composites, LLC, Huntsville, AL | 49 CFR 173.302a | To authorize the manufacture, mark, sale and use of a non-DOT specification fully wrapped fiber reinforced composite gas cylinders with a non-load sharing plastic liner that meets the ISO 11119-3 standard except for the design water capacity and working pressure. (modes 1, 2, 3)
16425-N |  | Cabot Corporation, Tuscola, IL | 49 CFR 177.834(i)(3) | To authorize personnel to observe loading and unloading of cargo tank motor vehicles through two windows in a control center instead of being physically located within 25 feet of the cargo tanks. (mode 1)
16429-N |  | Construction Helicopters, Inc., Howell, MI | 49 CFR 172.101 Hazardous Materials Table Column (9B), Subparts C, D, and E of Part 172, 175.30 | To authorize the transportation in commerce of commerce of certain hazardous materials by 14 CFR part 133 Rotorcraft External Load Operations transporting hazardous materials attached to or suspended from an aircraft. Such transportation is in support of construction operations when the use of cranes or other lifting devices is impracticable or unavailable, without being subject to hazard communication requirements and quantity limitations. (mode 4)
16430-N |  | Eniware LLC, Washington, DC | 49 CFR 172.101 Hazardous Materials Table Column (9A), 173.4a(b), (c), (d), and (e)(3), IMDG Code Sections 3.5.1.1.1, 3.5.1.2, and 3.5.2.1.2, ICAO T1 Table 3-1 Columns 10 and 11, 3.5.1.1(c), 3.5.1.2, and 3.5.2.1(b) | To authorize the manufacture, mark, sale and use of specialized packagings used to transport sterilization devices containing nitric acid as expected quantities. (modes 1, 2, 3, 4, 5)
16431-N |  | Arnold Aviation and Thunder Mountain Express, Inc., Cascade, ID | 49 CFR 172.101 Hazardous Materials Table Column (9A), 172.200, 175.33, 175.75(b) | To authorize the transportation in commerce of certain cylinders containing propane aboard passenger-carrying aircraft to remote locations. (mode 5)
16432-N |  | Panasonic Corporation of North America, Newark, NJ | 49 CFR Subparts C through H of Part 172 | To authorize the manufacture, mark, sale and use of specially-designed combination packagings for damaged or defective lithium ion batteries that originally met the requirements under 49 CFR 173.185(c). (modes 1, 2)

[FR Doc. 2015-09352 Filed 4-22-15; 08:45 am]

BILLING CODE 4909-60-M